DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration, Office of Apprenticeship is soliciting comments concerning the proposed extension of the collection for the Title 29 CFR part 30, Equal Employment Opportunity in Apprenticeship Training.

A copy of the proposed information collection request (ICR) can be obtained by contacting the office listed below in the addressee section of this notice or at this Web site: http://www.doleta.gov/Performance/guidance/OMBControlNumber.cfm.

DATES: Written comments must be submitted to the office listed in the ADDRESSES section below on or before September 5, 2006.

ADDRESSES: Anthony Swoope, Administrator, Office of Apprenticeship, U.S. Department of Labor, Employment and Training Administration, Room N-5311, 200 Constitution Avenue, NW., Washington, DC 20210, Phone: (202) 693-2796 (This is not a toll-free number), Fax: (202) 693-2808, or e-mail: swoope.anthony@dol.gov.

SUPPLEMENTARY INFORMATION:

I. Background

The National Apprenticeship Act of 1937, Section 50 (29 U.S.C. 50), authorizes and directs the Secretary of Labor “to formulate and promote the furtherance of labor standards necessary to safeguard the welfare of apprentices, to extend the application of such standards by encouraging the inclusion thereof in contracts of apprenticeship, to bring together employers and labor for the formulation of programs of apprenticeship, to cooperate with State agencies engaged in the formulation and promotion of standards of apprenticeship, and to cooperate with the Secretary of Education in accordance with Section 17 of Title 20.” Section 50a of the Act authorizes the Secretary of Labor to “publish information relating to existing and proposed labor standards of apprenticeship,” and to “appoint national advisory committees * * *” (29 U.S.C. 50a).

Title 29 CFR part 30 sets forth policies and procedures to promote equality of opportunity in apprenticeship programs registered with the U.S. Department of Labor and recognized State Apprenticeship Agencies. These policies and procedures apply to recruitment and selection of apprentices, and to all conditions of employment and training during apprenticeship. The procedures provide for review of apprenticeship programs, for registering apprenticeship programs, for processing complaints, and for deregistering non-complying apprenticeship programs. This part also provides policies and procedures for continuation or withdrawal of recognition of State agencies which register apprenticeship programs for Federal purposes.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension of a currently approved collection.

Agency: Employment and Training Administration.

Title: Title 29 CFR part 30, Equal Employment Opportunity in Apprenticeship Training.

OMB Number: 1205-0224.

Agency Form Number: ETA 9039.

Recordkeeping: Apprenticeship sponsors are required to keep accurate records on recruitment, selection of the applicant and/or apprentice and the employment and training activities related to the apprentice and the qualifications of each applicant/apprentice pertaining to determination of compliance with the regulation. Records must be retained, where appropriate, regarding affirmative action plans and evidence that qualification standards have been validated. State Apprenticeship Councils are also obligated to keep adequate records pertaining to determination of compliance with these regulations. All of the above records are required to be maintained for five years. If this information was not required, there would be no documentation that the apprenticeship programs were being operated in a nondiscriminatory manner. Many apprenticeship programs are four years or more in duration; therefore, it is important to maintain the records for at least five years.

Affected Public: Applicants, Apprentices, Sponsors, State Apprenticeship Councils or Agencies, Tribal Government.

Total Respondents: 28,800.

Estimated Total Burden Hours: 5,842.

Summary of Burden for 29 CFR Part 30
Sec. | Total respondents | Frequency | Total responses | Average time per response | Burden (hours)
30.3 | 1,540 | 1-time basis | 1,540 | 1/2 hr./spon | 770
30.4 | 70 | 1-time basis | 70 | 1 hr./spon | 70
30.5 | 6,140 | 1-time basis | 6,140 | 1/2 hr./spon | 3,070
30.6 | 50 | 1-time basis | 50 | 5 hrs./spon | 250
30.8 | 28,800 | 1-time/ program | 28,800 | 1 min./spon | 480
30.8 | 30 State Agencies | 1-time basis | 14,120 | 5 min./spon | 1,177
30.11 | 28,800 | 1 time | 28,800 | Handout |
ETA 9039 | 50 appl/appr. | 1-time basis | 50 | 1/2 hr | 25
30.15 | 30 State Agencies | 1-time | Completed |  |
30.19 | 30 State Agencies | Varies |  |  |
Totals | 28,800 |  | 50,770 |  | 5,842

Total Burden Cost (capital/startup): 0.

Total Burden Cost (operating/maintaining): 0.

Comments submitted in response to this comment request will be summarized and/or included in the request for Office of Management and Budget approval of the information collection request; they will also become a matter of public record.

Dated: June 23, 2006.
Anthony Swoope,
Administrator, Office of Apprenticeship.

[FR Doc. E6-10505 Filed 7-5-06; 8:45 am]

BILLING CODE 4510-30-P